DEPARTMENT OF COMMERCE

International Trade Administration

[A-588-810]

Preliminary Results of Antidumping Duty Administrative Review and Preliminary Determination Not to Revoke, in-Part: Mechanical Transfer Presses from Japan

AGENCY: Import Administration, International Trade Administration, U.S. Department of Commerce.

SUMMARY: The Department of Commerce (the Department) is conducting an administrative review of the antidumping duty order on mechanical transfer presses (MTPs) from Japan in response to a request by Hitachi Zosen Corporation (HZC) and its subsidiary Hitachi Zosen Fukui Corporation, doing business as H&F Corporation (H&F). This review covers entries of this merchandise to the United States during the period of February 1, 2002 through January 31, 2003. We preliminarily determine that U.S. sales were made at prices below normal value (NV). Because we have determined that U.S. sales were made at prices below NV, we also preliminarily determine that this order should not be revoked with respect to HZC/H&F. If these preliminary results are adopted in our final results of administrative review, we will instruct U.S. Customs and Border Protection (CBP) to assess antidumping duties based on the difference between export price (EP) and NV. Interested parties are invited to comment on these preliminary results. Parties who submit argument are requested to submit with each argument: (1) a statement of the issue and (2) a brief summary of the argument.

EFFECTIVE DATE: March 8, 2004.

FOR FURTHER INFORMATION CONTACT: Jacqueline Arrowsmith or Sally Gannon, Office of Antidumping/Countervailing Duty Enforcement VII, Import Administration, International Trade Administration, U.S. Department of Commerce, 14th Street and Constitution Avenue, N.W., Washington D.C. 20230; telephone (202) 482-5255 or (202) 482-0162, respectively.

SUPPLEMENTARY INFORMATION:

Background

The Department published an antidumping duty order on MTPs from Japan on February 16, 1990 (55 FR 5642). On February 24, 2003, the Department received a timely request for an administrative review of the antidumping duty order on MTPs from HZC and its subsidiary, H&F. On February 27, 2002, the Department received a timely request from the petitioner, IHI-Verson Press Technology, LLC, for an administrative review of HZC and H&F. On February 28, 2003, HZC/H&F properly filed a timely request that the Department revoke the order with respect to its sales of MTPs in accordance with section 351.222(e) of the Department's regulations. On March 25, 2003, we published a notice initiating an administrative review of MTPs (68 FR 14394). The review covers H&F, which manufactured MTPs during the period of review (POR), and HZC, the parent company and nominal reseller, which owns a controlling interest in H&F. For purposes of all prior administrative reviews in which HZC and H&F have participated, we have treated these companies as affiliated and collapsed them.

Due to complicated issues in this case, on October 15, 2003, the Department extended the deadline for the preliminary results of this antidumping duty administrative review until no later than February 28, 2004. See Mechanical Transfer Presses From Japan: Extension of Time Limit for Preliminary Results of Antidumping Administrative Review, 68 FR 59365 (October 15, 2003).

Scope of the Antidumping Duty Order

Imports covered by this antidumping duty order include mechanical transfer presses, currently classifiable under Harmonized Tariff Schedule of the United States (HTSUS) item numbers 8462.10.0035, 8466.94.6540 and 8466.94.8540. The HTSUS subheadings are provided for convenience and CBP purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled.

The Department published in the Federal Register several notices of scope rulings with respect to MTPs from Japan, determining that (1) spare and replacement parts are outside the scope of the order (see Notice of Scope Rulings, 57 FR 19602 (May 7, 1992)); (2) a destack feeder designed to be used with a mechanical transfer press is an accessory and, therefore, is not within the scope of the order (see Notice of Scope Rulings, 57 FR 32973 (July 24, 1992)); (3) the FMX cold forging press is within the scope of the order (see Notice of Scope Rulings, 59 FR 8910 (February 24, 1994)); and (4) certain mechanical transfer press parts exported from Japan are outside the scope of the order (see Notice of Scope Rulings, 62 FR 9176 (February 28, 1997).

Verification

As provided in section 782(i) of the Act, we verified the sales and cost information provided by HZC and H&F using standard verification procedures, including on-site inspection of the manufacturer's facilities and the examination of relevant sales and financial records.

Affiliation and Collapsing of HZC and H&F

Based on HZC's ownership interest in H&F (more than seventy percent), we continue to find as we have in past reviews that HZC and H&F are affiliated pursuant to sections 771(33)(E) and (G) of the Act. See Mechanical Transfer Presses from Japan: Preliminary Results of Antidumping Duty Administrative Review 68 FR 11039 (March 7, 2003) and Mechanical Transfer Presses from Japan: Final Results of Antidumping Duty Administrative Review 68 FR 39515 (July 2, 2003) (MTPs 2001/2002 Review). See also Mechanical Transfer Presses from Japan: Preliminary Results of Antidumping Duty Administrative Review 67 10363 (March 7, 2002) and Mechanical Transfer Presses from Japan: Final Results of Antidumping Duty Administrative Review and Revocation, in-Part 67 FR 35958 (May 22, 2002) (MTPs 2000/2001 Review). Furthermore, for purposes of this analysis, we are collapsing HZC and H&F. There is no new information or evidence of changed circumstances in this review to warrant reconsideration of this determination. See MTPs 2001/2002 Review. See also MTPs 2000/2001 Review.

Revocation Determination

On February 28, 2003, HZC/H&F requested, pursuant to 19 CFR 351.222(e)(1), partial revocation of the order with respect to its sales of MTPs. HZC/H&F certified that: (1) it sold the subject merchandise in commercial quantities at not less than NV for a period of at least three consecutive years; (2) in the future, it will not sell the subject merchandise at less than NV; and, (3) it agreed to immediate reinstatement under the order if the Department determines that, subsequent to revocation, it has sold the subject merchandise at less than NV.

Although HZC/H&F received zero margins in the two preceding reviews, based upon our finding that HZC/H&F sold subject merchandise at less than NV in this review, HZC/H&F has not demonstrated three consecutive years of sales in commercial quantities at not less than NV. Therefore, the Department preliminarily determines that partial revocation of the order with respect to HZC/H&F is not warranted.

Normal Value Comparisons

To determine whether respondents' exports of the subject merchandise to the United States were made at less than NV, we compared EP to NV, as described in the “Export Price” and “Normal Value” sections of this notice.

Export Price

In accordance with section 772(a) of the Act, EP is the price at which subject merchandise is first sold (or agreed to be sold) before the date of importation by the producer or exporter of the subject merchandise outside the United States to an unaffiliated purchaser for export to the United States. Because HZC/H&F sold the subject merchandise to unaffiliated trading companies in Japan prior to importation into the United States, we have treated HZC/H&F's sales as EP sales for purposes of these preliminary results. We calculated EP for HZC/H&F based on the packed, freight-prepaid price to the U.S. customer. We made deductions from the starting price for foreign inland freight, foreign inland insurance, foreign brokerage and handling, international freight, marine insurance, U.S. inland freight, U.S. inland brokerage and handling, and installation supervision expenses, in accordance with section 772(c)(2) of the Act.

Normal Value

While the home market is viable, in accordance with precedent in this case, we have determined that constructed value (CV) is appropriate as the basis for NV. See Mechanical Transfer Presses from Japan: Preliminary Results of Antidumping Duty Administrative Review 68 FR 11039 (March 7, 2003); Mechanical Transfer Presses from Japan: Final Results of Antidumping Duty Administrative Review 68 FR 39515 (July 2, 2003); Mechanical Transfer Presses from Japan: Preliminary Results of Antidumping Duty Administrative Review 67 10363 (March 7, 2002); and Mechanical Transfer Presses from Japan: Final Results of Antidumping Duty Administrative Review and Revocation, in-Part 67 FR 35958 (May 22, 2002).

Accordingly, we are using CV as the basis for NV for HZC/H&F, in accordance with section 773(a)(4) of the Act. CV consists of direct materials, direct labor, variable overhead, fixed overhead (yielding total cost of manufacturing), plus selling, general and administrative expenses, net interest expense, profit, and U.S. packing expenses. We subtracted home market direct selling expenses (warranties and credit). We added to CV amounts for direct selling expenses (warranties and credit) for merchandise exported to the United States.

Preliminary Results of Review

We preliminarily determine that the following dumping margin exists:

Manufacturer/Exporter | Time Period | Margin (percent)
Hitachi Zosen Corporation/ | 02/01/00-01/31/01 | 1.54
Hitachi Zosen Fukui Corporation

Assessment Rates

The Department shall determine, and CBP shall assess, antidumping duties on all appropriate entries. For HZC/H&F the assessment rate will be based on the margin above. The Department will issue appropriate appraisement instructions directly to CBP within 15 days of publication of the final results of review. We will direct CBP to assess the resulting assessment rates against the entered customs values for the subject merchandise on each of the entries during the period of review.

Cash Deposit Requirements

The following deposit rates will be effective with respect to all shipments of MTPs from Japan entered, or withdrawn from warehouse, for consumption on or after the publication date of the final results as provided for by section 751(a)(2)(c) of the Act. (1) For HZC/H&F, the cash deposit rate will be the company-specific rate established in the final results of this review; (2) for previously reviewed or investigated companies not listed above, the cash deposit rate will be the company-specific rate established for the most recent period; (3) if the exporter is not a firm covered in this review, a prior review, or the less-than-fair-value (LTFV) investigation, but the manufacturer is, the cash deposit rate will be the rate established for the most recent period for the exporters of this merchandise, the cash deposit rate shall be the “all others” rate established in the less than fair value investigation, which is 14.51 percent. See Final Determination of Sales at Less Than Fair Value: Mechanical Transfer Presses from Japan 55 FR 335 (January 4, 1990). These deposit rates, when imposed, shall remain in effect until the publication of the next administrative review.

Public Comment

Pursuant to section 351.224(b) of the Department's regulations, the Department will disclose to parties to the proceeding any calculations performed in connection with these preliminary results within five days after the date of publication of this notice. Pursuant to section 351.309 of the Department's regulations, interested parties may submit written comments in response to these preliminary results. Case briefs are to be submitted within 30 days after the date of publication of this notice, and rebuttal briefs, limited to arguments raised in case briefs, are to be submitted no later than five days after the time limit for filing case briefs. Parties who submit arguments in this proceeding are requested to submit with the argument: (1) a statement of the issues, and (2) a brief summary of the argument. Case and rebuttal briefs must be served on interested parties in accordance with section 351.303(f) of the Department's regulations. Also, pursuant to section 351.310 of the Department's regulations, within 30 days of the date of publication of this notice, interested parties may request a public hearing on arguments to be raised in the case and rebuttal briefs. Unless the Secretary specifies otherwise, the hearing, if requested, will be held two days after the date for submission of rebuttal briefs. Parties will be notified of the time and location. The Department will publish the final results of this administrative review, including the results of its analysis of issues raised in any case or rebuttal brief, not later than 120 days after publication of these preliminary results, unless extended.

Notice to Importers

This notice serves as a preliminary reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This administrative review and notice are issued in accordance with sections 751(a)(1) and 777(i)(1) of the Act (19 U.S.C. § 1675(a)(1) and 19 U.S.C 1677f(i)(1)).

Dated: March 1, 2004.
James J. Jochum,
Assistant Secretary for Import Administration.

[FR Doc. 04-5139 Filed 3-5-04; 8:45 am]

BILLING CODE 3510-DS-S